COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

Comments Must Be Received on or Before: 7/19/2010.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 8415-01-579-9622—Multi-Cam Coat

NSN: 8415-01-579-9864—Multi-Cam Coat

NSN: 8415-01-580-0068—Multi-Cam Coat

NSN: 8415-01-580-0075—Multi-Cam Coat

NSN: 8415-01-580-0077—Multi-Cam Coat

NSN: 8415-01-579-9840—Multi-Cam Coat

NSN: 8415-01-579-9843—Multi-Cam Coat

NSN: 8415-01-579-9847—Multi-Cam Coat

NSN: 8415-01-579-9850—Multi-Cam Coat

NSN: 8415-01-579-9852—Multi-Cam Coat

NSN: 8415-01-579-9806—Multi-Cam Coat

NSN: 8415-01-579-9811—Multi-Cam Coat

NSN: 8415-01-579-9814—Multi-Cam Coat

NSN: 8415-01-579-9827—Multi-Cam Coat

NSN: 8415-01-579-9830—Multi-Cam Coat

NSN: 8415-01-579-9833—Multi-Cam Coat

NSN: 8415-01-579-9836—Multi-Cam Coat

NSN: 8415-01-579-9773—Multi-Cam Coat

NSN: 8415-01-579-9776—Multi-Cam Coat

NSN: 8415-01-579-9781—Multi-Cam Coat

NSN: 8415-01-579-9782—Multi-Cam Coat

NSN: 8415-01-579-9784—Multi-Cam Coat

NSN: 8415-01-579-9823—Multi-Cam Coat

NSN: 8415-01-579-9789—Multi-Cam Coat

NSN: 8415-01-579-9794—Multi-Cam Coat

NSN: 8415-01-579-9795—Multi-Cam Coat

NSN: 8415-01-579-9801—Multi-Cam Coat

NSN: 8415-01-579-9753—Multi-Cam Coat

NSN: 8415-01-579-9756—Multi-Cam Coat

NSN: 8415-01-579-9759—Multi-Cam Coat

NSN: 8415-01-579-9762—Multi-Cam Coat

NSN: 8415-01-579-9616—Multi-Cam Coat

NSN: 8415-01-579-9621—Multi-Cam Coat

NSN: 8415-01-579-9747—Multi-Cam Coat

NSN: 8415-01-579-9749—Multi-Cam Coat

NSN: 8415-01-579-9745—Multi-Cam Coat

NSN: 8415-01-579-9752—Multi-Cam Coat

NPAs: Southside Training Employment Placement Services, Inc., Farmville, VA ReadyOne Industries, Inc., El Paso, TX.

Contracting Activity: DEPT OF THE ARMY, XR W2DF RDECOM ACQ CTR NATICK, MA.

Coverage: C-List for 100% of the requirement of the U.S Army, as aggregated by the Department of the Army Research, Development, & Engineering Command, Natick, MA.

NSN: 8415-01-579-8677—Multi-Cam Trouser

NSN: 8415-01-579-8714—Multi-Cam Trouser

NSN: 8415-01-579-8719—Multi-Cam Trouser

NSN: 8415-01-579-8744—Multi-Cam Trouser

NSN: 8415-01-579-8766—Multi-Cam Trouser

NSN: 8415-01-579-8385—Multi-Cam Trouser

NSN: 8415-01-579-8551—Multi-Cam Trouser

NSN: 8415-01-579-8553—Multi-Cam Trouser

NSN: 8415-01-579-8558—Multi-Cam Trouser

NSN: 8415-01-579-8561—Multi-Cam Trouser

NSN: 8415-01-579-8570—Multi-Cam Trouser

NSN: 8415-01-579-8580—Multi-Cam Trouser

NSN: 8415-01-579-8684—Multi-Cam Trouser

NSN: 8415-01-579-8227—Multi-Cam Trouser

NSN: 8415-01-579-8263—Multi-Cam Trouser

NSN: 8415-01-579-8276—Multi-Cam Trouser

NSN: 8415-01-579-8354—Multi-Cam Trouser

NSN: 8415-01-579-8365—Multi-Cam Trouser

NSN: 8415-01-579-8788—Multi-Cam Trouser

NSN: 8415-01-579-8791—Multi-Cam Trouser

NSN: 8415-01-579-8771—Multi-Cam Trouser

NSN: 8415-01-579-9123—Multi-Cam Trouser

NSN: 8415-01-579-9119—Multi-Cam Trouser

NSN: 8415-01-579-8080—Multi-Cam Trouser

NSN: 8415-01-579-8098—Multi-Cam Trouser

NSN: 8415-01-579-8112—Multi-Cam Trouser

NSN: 8415-01-579-8126—Multi-Cam Trouser

NSN: 8415-01-582-4206—Multi-Cam Trouser

NSN: 8415-01-579-7850—Multi-Cam Trouser

NSN: 8415-01-579-9121—Multi-Cam Trouser

NSN: 8415-01-579-9130—Multi-Cam Trouser

NSN: 8415-01-579-9132—Multi-Cam Trouser

NSN: 8415-01-579-8591—Multi-Cam Trouser

NSN: 8415-01-579-8776—Multi-Cam Trouser

NSN: 8415-01-579-9120—Multi-Cam Trouser

NSN: 8415-01-579-8784—Multi-Cam Trouser

NPAs: ReadyOne Industries, Inc., El Paso, TX, Goodwill Industries of South Florida, Inc., Miami, FL.

Contracting Activity: DEPT OF THE ARMY, XR W2DF RDECOM ACQ CTR NATICK, MA.

Coverage: C-List for 100% of the requirement of the U.S. Army, as aggregated by the Department of the Army Research, Development, & Engineering Command, Natick, MA.

NSN: MR 549—Sponge, Pop-Up, Small.

NPA: Mississippi Industries for the Blind, Jackson, MS.

Contracting Activity: MILITARY RESALE-DEFENSE-COMMISSARY AGENCY FORT LEE, VA.

Coverage: C-List for the requirements of military commissaries and exchanges as aggregated by the Defense Commissary Agency.

Colored Straight Cut File Folder, 11 Point

NSN: 7530-01-364-9484—RED

NSN: 7530-01-364-9502—BLUE

NSN: 7530-01-364-9505—GREEN

NSN: 7530-01-364-9506—ORANGE

NSN: 7530-01-364-9486—YELLOW

NSN: 7530-01-203-1493—LAVENDER

NSN: 7530-01-364-9482—PINK

NSN: 7530-01-364-9483—PURPLE

NSN: 7530-01-364-9485—WHITE

NSN: 7530-01-364-9503—BROWN

NSN: 7530-01-364-9504—GRAY

NPA: L.C. Industries for the Blind, Inc., Durham, NC.

Contracting Activity: FEDERAL ACQUISITION SERVICE, GSA/FSS OFC SUP CTR—PAPER PRODUCTS, NEW YORK, NY.

Coverage: A-List for the Total Government Requirement as aggregated by the General Services Administration.

Scissors and Shears

NSN: 5110-01-241-4371—Shears, Bent Trimmers

NSN: 5110-01-241-4373—Shears, Straight Trimmers

NSN: 5110-01-241-4375—Scissors, Ladies Sewing; Stainless Steel

Coverage: A-List for the Total Government Requirement as aggregated by the General Services Administration.

NSN: 5110-01-241-4376—Scissors, Pocket

Coverage: B-List for the Broad Government Requirement as aggregated by the General Services Administration.

NPA: Winston-Salem Industries for the Blind, Winston-Salem, NC.

Contracting Activity: FEDERAL ACQUISITION SERVICE, GSA/FSS TOOLS ACQUISITION DIVISION I, KANSAS CITY, MO.

Services

Service Type/Location: Mess Attendant Service, 185th Air Refueling Wing Dining Hall, 2920 Headquarters Avenue, Sioux City, IA.

NPA: Goodwill Community Rehabilitation Services, Inc., Sioux City, IA.

Contracting Activity: DEPT OF THE ARMY, XRAW7M8 USPFO ACTIVITY IA ARNG, JOHNSTON, IA.

Service Type/Location: Custodial Service, National Weather Service, 587 Aero Drive, Buffalo, NY.

NPA: Suburban Adult Services, Inc., Elma, NY.

Contracting Activity: DEPT OF COMMERCE, NATIONAL OCEANIC AND ATMOSPHERIC ADMINISTRATION, NORFOLK, VA.

Service Type/Location: Custodial Service, DCMA Pease Air National Guard Base, 302 Newmarket St., Building 247, Pease ANGB, NH.

NPA: CW Resources, Inc., New Britain, CT.

Contracting Activity: DEFENSE CONTRACT MANAGEMENT AGENCY (DCMA), BOSTON, MA.

Service Type/Location: Administrative Support Service, Welcome Center, Defense Supply Center Richmond, 8000 Jefferson Davis Highway, Richmond, VA.

NPA: Richmond Area Association for Retarded Citizens, Richmond, VA.

Contracting Activity: DEFENSE LOGISTICS AGENCY, DEFENSE SUPPLY CENTER RICHMOND, RICHMOND, VA

Service Type/Location: Receiving/Delivery, Supply Store, Warehousing, Mailroom Environmental Protection Agency Complex System, 109 T.W. Alexander Drive, Research Triangle Park, NC

NPA: Employment Source, Inc., Fayetteville, NC

Contracting Activity: ENVIRONMENTAL PROTECTION AGENCY, RTP PROCUREMENT OPERATIONS DIVISION (RTPPOD), RESEARCH TRIANGLE PARK, NC.

Service Type/Location: Custodial Service, Air Traffic Control Tower, Duluth International Airport, 4525 Airport Approach Road, Duluth, MN.

NPA: Goodwill Industries Vocational Enterprises, Inc., Duluth, MN.

Contracting Activity: DEPT OF TRANSPORTATION, FEDERAL AVIATION ADMINISTRATION, DES PLAINES, IL.

Service Type/Location: Custodial Service (Basewide), Naval Air Station/Joint Reserve Base (NAS/JRB), New Orleans, LA.

NPA: Goodworks, Inc., Metairie, LA.

Contracting Activity: DEPT OF THE NAVY, NAVAL FACILITIES ENGINEERING CMD, NAVFAC SOUTHEAST, JACKSONVILLE, FL.

Service/Location: Base Supply Center, Scott Air Force Base, IL.

NPA: Associated Industries for the Blind, Milwaukee, WI.

Contracting Activity: 375th CONTRACTING SQUADRON/LGCM, SCOTT AIR FORCE BASE, IL.

Barry S. Lineback,
Director, Business Operations.

[FR Doc. 2010-14806 Filed 6-17-10; 8:45 am]

BILLING CODE 6353-01-P